DEPARTMENT OF HOMELAND SECURITY

Coast Guard

[Docket No. USCG-2025-0248]

Request for Information on Multi-Service Vessels and Vessels of Opportunity

AGENCY: Coast Guard, DHS.

ACTION: Request for information.

SUMMARY: The Coast Guard is requesting input from the public to better understand the operations of multi-service vessels (MSVs), specifically regarding the use of vessels of opportunity (VOOs). Public feedback will help to assess the current state of MSVs and VOOs in support of the marine transportation system and oil spill response activities.

DATES: Comments must be received by the Coast Guard on or before December 1, 2025.

ADDRESSES: You may submit comments using the Federal Docket Management System atwww.regulations.gov. See the “Public Participation and Request for Comments” portion of the SUPPLEMENTARY INFORMATION section for further instructions on submitting comments.

FOR FURTHER INFORMATION CONTACT: For information about this document, call or email Mrs. Jennifer Hnatow, U.S. Coast Guard; telephone 202-372-1216, email Jennifer.L.Hnatow@uscg.mil.

SUPPLEMENTARY INFORMATION:

I. Public Participation and Request for Comments

The U.S. Coast Guard views public participation as essential to understanding vessel inspection and examination requirements. The Coast Guard will consider all information and material received during the comment period. If you submit a comment, please include the docket number for this request for information, indicate the specific section of this document to which each comment applies, and provide a reason for each suggestion or recommendation.

Methods for submitting comments. We encourage you to submit comments through the Federal Docket Management System at www.regulations.gov. To do so, go to www.regulations.gov, type USCG-2025-0248 in the search box, and click “Search.” Next, look for this document in the Search Results column, and click on it. Then click on the Comment option. If your material cannot be submitted using www.regulations.gov, contact the person in the FOR FURTHER INFORMATION CONTACT section of this document for alternate instructions.

Public comments will be posted in our online docket at www.regulations.gov and can be viewed by following the instructions on the Frequently Asked Questions web page, available at www.regulations.gov/faq. That page also explains how to subscribe for email alerts that will notify you when comments are posted or if a final rule is published. We review all comments received.

The Coast Guard will not issue a separate response to the comments received but will carefully consider each submission. The Coast Guard may also introduce regulatory changes and update policy related to this topic. If the Coast Guard undertakes any regulatory or policy changes as a result of comments received, that change would be announced separately.

Personal information. We accept anonymous comments. Comments we post to www.regulations.gov will include any personal information you have provided. For more information about privacy and submissions to the docket in response to this document, see the Department of Homeland Security's eRulemaking System of Records notice (85 FR 14226, March 11, 2020).

II. Abbreviations

2023 NDAA National Defense Authorization Act for Fiscal Year 2023

COI Certificate of Inspection

CFR Code of Federal Regulations

MSV Multi-service vessel

OCMI Officer in Charge, Marine Inspection

OSV Offshore supply vessel

RFI Request for information

VOO Vessel of opportunity

III. Purpose

The U.S. Coast Guard is issuing this request for information (RFI) to collect information, ideas, and recommendations related to vessels that perform operations and would be required inspection under multiple subchapters in title 46 of the Code of Federal Regulations (CFR), commonly referred to as multi-service vessels (MSVs). The Coast Guard will use the public comments received in response to this RFI to better understand the vessel of opportunity (VOO) industry.

IV. Background

The Coast Guard has long supported the diversification of commercial activities for U.S.-flagged vessels. This effort began in 1999 with policy focused on simplifying the issuance of a single Certificate of Inspection (COI) for offshore supply vessels (OSVs) operating under multiple inspection subchapters. Recognizing the evolving nature of the maritime industry, particularly with the introduction of 46 CFR subchapter M establishing standards for towing vessels in 2016, the Coast Guard sought to provide more comprehensive guidance. The National Defense Authorization Act for Fiscal Year 2023 (2023 NDAA) further spurred this effort by defining VOOs as vessels primarily engaged in activities other than spill response but used for such purposes. Section 11316 of the 2023 NDAA (Pub. L. 117-263, 136 Stat. 2395) (46 U.S.C. 3306 note). Additionally, the 2023 NDAA directed the Coast Guard to clarify in policy the applicability of subchapter M regulations to VOOs and fishing vessels. Id.

In response, the Coast Guard published work instruction CVC-WI-032 in June 2023, titled “U.S. Flagged Vessels Inspected Under Multiple Subchapters (“Multi-Service”).” CVC-WI-032 builds upon the original OSV policy and addresses a broader range of MSV scenarios, including VOOs, vessels carrying freight, and vessels operating in inspected and uninspected service. It provides guidance on inspection requirements, exemptions, and certification processes, which aims to streamline regulatory compliance and reduce administrative burden while maintaining safety standards. Specifically, it allows for the issuance of a single COI for vessels operating under multiple subchapters and clarifies when vessels, such as VOOs or fishing vessels engaged in spill response towing, may be exempt from certain inspection requirements.

The 2023 NDAA defined a VOO as “a vessel engaged in spill response activities that is normally and substantially involved in activities other than spill response and not a vessel carrying oil as a primary cargo.” Vessels that have historically participated in the voluntary VOO program include those whose primary service has been as fishing vessels (as defined at 46 U.S.C. 2101(12)) and recreational vessels (as defined at 46 U.S.C. 2101(34)). Officers in Charge, Marine Inspection (OCMIs) issue VOO letters (called “Oil Spill Response Vessel—Vessel of Opportunity (VOO) Letters” in CVC-WI-032) to uninspected vessels that qualify as VOOs. The VOO letter confirms that the vessel qualifies to operate as a VOO within a particular OCMI area and identifies other information, such as the normal activities of the vessel and any necessary manning requirements. Inspected vessels that qualify as VOOs have a corresponding endorsement added to their COI.

V. Request for Information

The Coast Guard requests relevant comments and information from the public regarding the operations of MSVs and VOOs, including vessel inspection information provided for MSVs as outlined within CVC-WI-032. Listed below are questions to guide your responses. We want and encourage your feedback.

1. What are the operational and regulatory challenges for MSVs? Are there improvements you recommend to Coast Guard policy in this area?

2. What are the current industry practices for MSV operations and inspections, considering geographic and regional challenges? Based on your vessel's specifications and intended activities, which regulations apply to your vessel? Are there challenges in meeting these requirements?

3. A VOO is defined by the 2023 NDAA, section 11316, as “a vessel engaged in spill response activities that is normally and substantially involved in activities other than spill response and not a vessel carrying oil as a primary cargo.” Does this definition align with your understanding of VOOs and how they operate? If not, what changes would you recommend? What types of vessels operate as VOOs and what services do they normally perform when not operating as VOOs?

4. As a vessel owner or operator, what obstacles and real-world operational, logistical, and geographic challenges do vessels encounter when conducting VOO operations? Are there improvements you recommend to Coast Guard policy in this area?

5. What information should be required to obtain and renew a VOO letter from the Coast Guard? What impediments exist to obtaining a VOO letter from the Coast Guard?

6. Are there elements of existing VOO programs that could be integrated into Coast Guard policies or programs?

7. Have you encountered VOOs operating for multiple oil spill removal organizations? Are the participation requirements different for each organization? If so, what challenges arise from these differences?

8. For oil spill removal organizations that use VOOs as part of the capability packages they provide to a vessel or facility to meet vessel or facility response plan requirements;

a. What kind of services do VOOs provide for the oil spill removal organization? (For example, towing, wildlife response, carrying cargo or supplies, or passenger transportation.)

b. What percentage of these VOOs are used for each kind of service?

9. Considering geographic and regional challenges, what are the implications if VOOs are not available? What advantages or utility do VOOs bring to regional response efforts?

10. As an owner or operator of a vessel that participates in a VOO program, what additional costs do you incur in order to participate? For example, are there additional inspection costs, and do you need additional equipment to meet the needs of a VOO?

Dated: September 29, 2025.
W.R. Arguin,
Rear Admiral, U.S. Coast Guard, Assistant Commandant for Prevention Policy.

[FR Doc. 2025-19276 Filed 10-1-25; 8:45 am]

BILLING CODE 9110-04-P